DEPARTMENT OF TRANSPORTATION

Pipeline and Hazardous Materials Safety Administration

[Docket No. PHMSA-2020-0001]

Pipeline Safety: Request for Special Permit

AGENCY: Pipeline and Hazardous Materials Safety Administration (PHMSA); DOT.

ACTION: Notice.

SUMMARY: PHMSA is publishing this notice to solicit public comments on a request for two special permit segment extensions and one new special permit segment submitted by Florida Gas Transmission Company, LLC (FGT), a subsidiary of Energy Transfer and Kinder Morgan, Inc. FGT is seeking relief from compliance with certain requirements in the Federal pipeline safety regulations. At the conclusion of the 30-day comment period, PHMSA will review the comments received from this notice as part of its evaluation to grant or deny the special permit request.

DATES: Submit any comments regarding this special permit request by September 22, 2025.

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information

Confidential Business Information (CBI) is commercial or financial information that is both customarily and treated as private by its owner. Under the Freedom of Information Act (FOIA) (5 United States Code 552), CBI is exempt from public disclosure. If your comments responsive to this notice contain commercial or financial information that is customarily treated as private, that you treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Mr. Lee Cooper by telephone at 202-913-3171, or by email at lee.cooper@dot.gov.

Technical: Mr. Zaid Obeidi by telephone at 202-366-5267, or by email at zaid.obeidi@dot.gov.

SUPPLEMENTARY INFORMATION: PHMSA received a special permit request from FGT on March 18, 2025, seeking special permit segment extensions, and seeking the addition of a new special permit segment to be incorporated into special permit PHMSA-2020-0001.¹ The new segment and extensions requested are a part of the active permit's special permit inspection area. Special permit PHMSA-2020-0001 allows FGT to deviate from the Federal pipeline safety regulations in 49 CFR 192.611(a) and (d), and 192.619(a), where a gas transmission pipeline segment has undergone a change from a Class 1 to a Class 3 location.

¹ Special permits PHMSA-2020-0001 and PHMSA-2023-0020 were combined into special permit PHMSA-2020-0001. Florida Gas Transmission Company, LLC first request was on December 18, 2019. PHMSA original issuance date was on March 31, 2022, and it was revised on June 24,2022. PHMSA received new segment request on March 24, 2023, and issued approval on August 22, 2023. The August 22, 2023, issuance letter indicated that Dockets PHMSA-2023-0020 and PHMSA-2020-0001 were combined into a single docket at Docket PHMSA-2020-0001.

Special permit PHMSA-2020-0001 was granted on August 22, 2023 and is effective until March 31, 2032 for six special permit segments, which include 10,279 feet (approximately 1.947 miles) of the FGT natural gas transmission pipeline system located in Lake, Orange, and Osceola counties, Florida. FGT is requesting a new special permit segment of 3,587 feet (approximately 0.679 miles) and special permit segment extensions totaling 8,009 feet (approximately 1.517 miles). If granted, the combined length of the requested expansion would total 11,596 feet (approximately 2.196 miles).

The active special permit segment, requested new special permit segment, and requested extensions, are as follows:

SPS No. | Status | County, State | Outside diameter (inches) | Line name | Length (feet) | Year installed | Maximum allowable operating pressure (pounds per square inch gauge)
187440 | Active Segment | Osceola, FL | 30 | MLV 18-1 to C/S 19 | 285 | 1995 | 975
| Extension | Osceola, FL | 30 | MLV 18-1 to C/S 19 | 5,196 | 1995 | 975
202974 | Active Segment | Osceola, FL | 30 | MLV 18-1 to C/S 19 | 4,451 | 1995 | 975
| Extension | Osceola, FL | 30 | MLV 18-1 to C/S 19 | 2,813 | 1995 | 975
228268 | New Segment | Brevard, FL | 26 | Mainline Loop STA18-STA19 | 3,587 | 1968 | 977

Upon receipt of this request, PHMSA reviewed the currently active special permit's Final Environmental Assessment (FEA) and its findings. In consideration of this, PHMSA finds that the existing FEA and Finding of No Significant Impact remain adequate, pursuant to the National Environmental Policy Act of 1969, as amended (42 U.S.C. 4321 et seq.), and the expansion of the proposed special permit would not result in significant impacts to the human environment. No further environmental assessment is required for this proposal.

FGT's new special permit segment and extensions request, active special permit with conditions, and FEA are available for review and public comment in Docket No. PHMSA-2020-0001. PHMSA invites interested persons to review and submit comments in the docket on both the special permit segment extension request and the new special permit segment request. Please submit comments on any potential safety, environmental, and other relevant considerations implicated by the special permit request. Comments may include relevant data.

Before issuing a decision on the special permit request, PHMSA will evaluate all comments received on or before the comments closing date. PHMSA will consider each relevant comment it receives in making its decision to grant or deny this special permit request.

Issued in Washington, DC, on August 19, 2025 under authority delegated in 49 CFR 1.97.
Linda Daugherty,
Acting Associate Administrator for Pipeline Safety.

[FR Doc. 2025-16025 Filed 8-20-25; 8:45 am]

BILLING CODE 4910-60-P